DEPARTMENT OF HOMELAND SECURITY

Coast Guard

33 CFR Part 117

[USCG-2013-0425]

Drawbridge Operation Regulations; Harlem River, New York City, NY

AGENCY: Coast Guard, DHS.

ACTION: Notice of temporary deviation from regulations.

SUMMARY: The Commander, First Coast Guard District, has issued a temporary deviation from the regulation governing the operation of the Willis Avenue Bridge across the Harlem River, mile 1.5, at the Bronx, New York. The deviation is necessary to facilitate electrical repairs at the bridge. Under this temporary deviation, the bridge may remain in the closed position for four weeks to facilitate scheduled repairs.

DATES: This deviation is effective from June 17, 2013 through July 12, 2013.

ADDRESSES: The docket for this deviation, [USCG-2013-0425] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, joe.m.arca@uscg.mil, or (212) 668-7165. If you have questions on viewing the docket, call Barbara Hairston, Program Manager, Docket Operations, telephone 202-366-9826.

SUPPLEMENTARY INFORMATION: The Willis Avenue Bridge has a vertical clearance of 24 feet at mean high water and 30 feet at mean low water in the closed position. The existing drawbridge operating regulations are found at 33 CFR 117.789(b)(2).

The bridge owner, New York City Department of Transportation, requested a four week closure from June 17, 2013 through July 12, 2013, to facilitate electrical repairs at the bridge.

The waterway users are commercial tug and barge traffic as well as various sized recreational craft. Local facilities were advised of the closures with no objections received.

In accordance with 33 CFR 117.35(e), the bridge must return to its regular operating schedule immediately at the end of the designated repair period. This deviation from the operating regulations is authorized under 33 CFR 117.35.

Dated: June 5, 2013.
Gary Kassof,
Bridge Program Manager, First Coast Guard District.

[FR Doc. 2013-14117 Filed 6-13-13; 8:45 am]

BILLING CODE 9110-04-P